DEPARTMENT OF HOMELAND SECURITY

Coast Guard

33 CFR Part 100

[Docket No. USCG-2015-0282]

Eighth Coast Guard District Annual Marine Event; Mayor's Hike, Bike and Paddle; Ohio River 602.0-603.5; Louisville, KY

AGENCY: Coast Guard, DHS.

ACTION: Notice of enforcement of regulation.

SUMMARY: The Coast Guard will enforce the Mayor's Hike, Bike and Paddle marine event for all waters of the Ohio River, beginning at mile marker 602.0 and ending at 603.5, Louisville, KY. This rule will be enforced from 9:00 a.m. to 12:30 p.m. on May 25, 2015.

This action is necessary to protect persons, property, and infrastructure from potential damage and safety hazards associated with the Mayor's Hike, Bike and Paddle. During the enforcement period, deviation from the regulations is prohibited unless specifically authorized by the Captain of the Port (COTP) Ohio Valley or a designated representative.

DATES: The regulations in 33 CFR 100.801, Table 1, Line 35 will be enforced from 9:00 a.m. to 12:30 p.m. on May 25, 2015.

FOR FURTHER INFORMATION CONTACT: If you have questions on this document, call or email Petty Officer James C. Robinson, U.S. Coast Guard; telephone 502-779-5347, email James.c.robinson@uscg.mil or Petty Officer Stephen F. McConnell, U.S. Coast Guard; telephone 502-779-5334, email Stephen.F.McConnell@uscg.mil.

SUPPLEMENTARY INFORMATION: The Coast Guard will enforce the “Mayor's Hike, Bike and Paddle” marine event in 33 CFR 100.801, Table 1, Line 35 from 9:00 a.m. to 12:30 p.m. on May 25, 2015. These regulations can be found in the Code of Federal Regulations, at 33 CFR 100.801.

Under the provisions of 33 CFR 100.801, a vessel may not enter the regulated area, unless it receives permission from the COTP Ohio Valley or a designated representative. Spectator vessels may safely transit outside the regulated area but may not anchor, block, loiter in, or impede the transit of official patrol vessels. The Coast Guard may be assisted by other Federal, State, or local law enforcement agencies in enforcing this regulation.

This document is issued under authority of 5 U.S.C. 552(a), and 33 U.S.C. 1233. In addition to this document in the Federal Register, the Coast Guard will provide the maritime community with extensive advance notification of this enforcement period via the Local Notice to Mariners (LNM) and Broadcast Notice to Mariners (BNM). If the COTP Ohio Valley determines that the regulated area need not be enforced for the full duration stated in the notice, he or she may use a BNM to grant general permission to enter the regulated area.

Dated: April 22, 2015.
R.V. Timme,
Captain, U.S. Coast Guard, Captain of the Port Ohio Valley.

[FR Doc. 2015-11941 Filed 5-15-15; 8:45 am]

BILLING CODE 9110-04-P